DEPARTMENT OF HEALTH AND HUMAN SERVICES

Administration for Children and Families

Submission for OMB Review; Comment Request

Title: State Plan for Foster Care, Independent Living Services and Adoption Assistance under Title IV-E of the Social Security Act.

OMB No.: 0980-0141.

Description: A State plan is required by sections 471 and 477(b)(2), part IV-E of the Social Security Act (the Act) for each public child welfare agency requesting Federal funding for foster care, independent living services and adoption assistance under the Act. The State plan is a comprehensive narrative description of the nature and scope of a State's programs and provides assurances the programs will be administered in conformity with the specific requirements stipulated in title IV-E. The plan must include all applicable State statutory, regulatory, or policy references and citation for each requirement as well as supporting documentation. A State may use the pre-print format prepared by the Children's Bureau of the Administration for Children and Families or a different format on the condition that the format used includes all of the title IV-E State plan requirements of the Act.

Respondents: State and Territorial Agencies (State Agencies) administering or supervising the administration of the title IV-E program.

Annual Burden Estimates
Instrument | Number of respondents | Number of responses per respondent | Average burden hours per response | Total burden hours
Title IV-E State Plan | 13 | 1 | 15 | 195

Estimated Total Annual Burden Hours: 195.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project.

Fax: 202-395-6974,

Attn: Desk Officer for the Administration for Children and Families.

Dated: June 5, 2008.
Janean Chambers,
Reports Clearance Officer.

[FR Doc. E8-13089 Filed 6-11-08; 8:45 am]

BILLING CODE 4184-01-M